DEPARTMENT OF LABOR

Employment and Training Administration

[TA-W-52,432]

Agilent Technologies, Inc., Network Systems Test Division, Colorado Springs, Colorado; Notice of Termination of Investigation

Pursuant to section 221 of the Trade Act of 1974, as amended, an investigation was initiated on July 31, 2003, in response to a petition filed by a state agency official on behalf of workers at Agilent Technologies, Inc., Network Systems Test Division, Colorado Springs, Colorado.

The petitioning group of workers is included in an ongoing petition investigation, TA-W-51,753, for which a determination has not yet been issued. Further investigation in this case would serve no purpose. Consequently, the investigation of this petition is terminated.

Signed at Washington, DC, this 26th day of August, 2003.
Linda G. Poole,
Certifying Officer, Division of Trade Adjustment Assistance.

[FR Doc. 03-23720 Filed 9-16-03; 8:45 am]

BILLING CODE 4510-30-P